DEPARTMENT OF DEFENSE

Department of the Army; Corps of Engineers

Intent To Prepare a Draft Environmental Impact Statement for Elliott Bay Seawall, WA

AGENCY: Department of the Army, U.S. Army Corps of Engineers, DoD.

ACTION: Notice of intent.

SUMMARY: Pursuant to section 102(2)(C) of the National Environmental Policy Act (NEPA) of 1969, as amended, the U.S. Army Corps of Engineers (Corps) will prepare an environmental impact statement (EIS) for a proposed seawall rehabilitation project along the Elliott Bay shoreline in Seattle, WA. The seawall, known as the Alaskan Way Seawall, is experiencing significant decay and deterioration, leading to structural instability along the Seattle waterfront and central business district. Seawall structural instability is putting a tremendous amount of public and private infrastructure, development, and transportation linkages at risk of damage due to wave and tidal erosion, and hence potential for undermining and collapse. In addition, the failure of the seawall would result in a high risk to public safety and substantial environmental degradation. The purpose of the proposed rehabilitation effort is to protect the public facilities and economic activities along the Elliott Bay shoreline from storm damages associated with failure of the existing seawall.

DATES: Submit comments on the scope of issues to be addressed in the Draft Environmental Impact Statement (DEIS) by April 30, 2006.

ADDRESSES: Address all comments concerning this notice to Ms. Aimee Kinney, U.S. Army Corps of Engineers, Seattle District, Environmental Resources Section, PO Box 3755, Seattle, WA 98124-3755. Submit electronic comments and other date to aimee.t.kinney@usace.army.mil.

FOR FURTHER INFORMATION CONTACT: Questions regarding the scoping process or preparation of the DEIS may be directed to Ms. Aimee Kinney, telephone (206) 764-3634, e-mail aimee.t.kinney@usace.army.mil.

SUPPLEMENTARY INFORMATION:

1. Proposed Action: The Alaskan Way Seawall extends for a distance of approximately 7900 feet along Seattle's central waterfront, between Washington Street to the south and Bay Street to the north. The proposed action would involve an extensive structural rebuild or replacement of the seawall in order to reduce damage resulting from storms and erosion. The proposed action is closely related to the proposed replacement of the State Route (SR) 99 Alaskan Way Viaduct, which runs parallel to a portion of the seawall. The SR 99 Alaskan Way Viaduct and Seawall Replacement Project Draft Environmental Impact Statement (AWVSRP DEIS) was issued by the U.S. Department of Transportation Federal Highway Administration (FHWA), Washington State Department of Transportation (WSDOT), and City of Seattle on April 9, 2004 (69 FR 18898). The AWVSRP DEIS evaluated the rebuilding of the Alaskan Way Seawall because it is essential to the function of transportation facilities and is at risk of collapsing in a large earthquake. The geographic area covered in the AWVSRP DEIS is virtually the same as the Corps study area. However, the Corps' EIS will evaluate the seawall from a storm damage reduction perspective; the seawall will be the primary focus of the analysis rather than a secondary project element, as in the AMVSRP DEIS. The Corps is reviewing the existing body of work and coordinating closely with the city of Seattle, FHWA, and WSDOT to incorporate all relevant material from their NEPA efforts, share information, and reduce duplication of efforts.

2. Alternatives: There are currently four alternatives which will receive consideration in the EIS: (1) The no action alternative; (2) construction of a vertical face wall with structural frame; (3) construction of a drilled shaft wall with soil improvements; and (4) replacing the portion of the seawall adjacent to the Alaskan Way viaduct with the outer wall of the new tunnel identified as the preferred alternative for the AWVSRP. These alternatives are the same as the rebuild, frame, and tunnel wall seawall alternatives evaluated in the AWVSRP DEIS. The development of seawall study alternatives has been and will continue to be closely coordinated with the AWVSRP through the City of Seattle, WSDOT, and FHWA. The selection of the Corps tunnel wall alternative could not occur unless FHWA signed a record of decision for the AWVSRP selecting the tunnel alternative. Opportunities will be sought to incorporate measures for improvement of habitat values, as well as recreation and public access. Public input is specifically invited regarding the reasonableness of the build alternatives and whether any additional alternatives are appropriate for consideration.

3. Scoping and Public Involvement: This notice of intent formally commences the scoping process under NEPA. As part of the scoping process, all affected Federal, State and local agencies, Native American Tribes, private organizations, and the public are invited to comment on the scope of the EIS. To date, the following issues of concern have been identified for in depth analysis in the draft EIS: (1) Construction impacts, particularly those related to noise, water quality, transportation, and effects to businesses and residences within/adjacent to the construction zone; (2) impacts associated with potential deviation of the existing seawall alignment; and (3) potential impacts to historical properties.

4. Scoping Meetings: Two public Scoping meetings will be held to identify issues of major concern, identify studies that might be needed in order to analyze and evaluate impacts, and obtain public input on the range and acceptability of alternatives. Both meetings will be conducted on April 18, 2006 in the Lopez Room at Seattle Center, 305 Harrison Street, Seattle, WA 98109. The first meeting will be held from 1 to 3:30 p.m. An informal open house will be held between 1 and 2 p.m. A brief presentation will be made between 2 and 2:30 p.m. Then testimony will be taken between 2:30 and 3:30 p.m. The second meeting will be held from 4:30 to 7 p.m. Another informal open house will be held between 4:30 and 5:30 p.m. The presentation will be made again between 5:30 and 6 p.m. Then testimony will be taken between 6 and 7 p.m. Verbal or written comments will be accepted at the Scoping meetings, or written comments may be sent by regular or electronic mail to Aimee Kinney (see ADDRESSES). Ongoing communication with agencies, Native American tribes, public interest groups, and interested citizens will take place throughout the EIS development through the use of public meetings, mailings, and the Internet. Additional meetings will be scheduled upon completion of the DEIS.

5. Other Environmental Review, Coordination and Permit Requirements: The environmental review process will be comprehensive and will integrate and satisfy the requirements of NEPA, and other relevant Federal, State and local environmental laws. Other environmental review, coordination, and permit requirements may include preparation of a Clean Water Act, Section 404 evaluation by the Corps.

Dated: March 17, 2006.
Debra M. Lewis,
Colonel, Corps of Engineers, District Commander.

[FR Doc. 06-3140 Filed 3-30-06; 8:45 am]

BILLING CODE 3710-ER-M